DEPARTMENT OF HOMELAND SECURITY

Coast Guard

33 CFR Part 110

[Docket Number USCG-2016-0132]

RIN 1625-AA01

Anchorage Grounds, Hudson River; Yonkers, NY to Kingston, NY

AGENCY: Coast Guard, DHS.

ACTION: Advance notice of proposed rulemaking; change in comment period.

SUMMARY: The Coast Guard is changing the comment period on the advance notice of proposed rulemaking (ANPRM) it published June 9, 2016, regarding anchorage grounds on the Hudson River from Yonkers, NY, to Kingston, NY. Comments will now be due on or before December 6, 2016 instead of September 7, 2016. As of August 29, 2016, the Coast Guard has received more than 2,100 public submissions from many interested persons commenting on the ANPRM. We are extending the comment period to continue encouraging this important public discussion.

DATES: Comments and related material must be received by the Coast Guard on or before December 6, 2016.

ADDRESSES: You may submit comments identified by docket number USCG-2016-0132 using the Federal eRulemaking Portal at http://www.regulations.gov. See the “Public Participation and Request for Comments” portion of the SUPPLEMENTARY INFORMATION section for further instructions on submitting comments.

FOR FURTHER INFORMATION CONTACT: If you have questions on this document, call or email Mr. Craig Lapiejko, Waterways Management Branch at Coast Guard First District, telephone 617-223-8351, email craig.d.lapiejko@uscg.mil.

SUPPLEMENTARY INFORMATION:

Table of Acronyms

ANPRM Advance notice of proposed rulemaking

DHS Department of Homeland Security

FR Federal Register

A. Public Participation and Request for Comments

We view public participation as essential to effective rulemaking, and will consider all comments and material received due on or before December 6, 2016. Your comments can help shape the outcome of this possible rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, you may review a Privacy Act notice regarding the Federal Docket Management System in the March 24, 2005, issue of the Federal Register (70 FR 15086).

Documents mentioned in the ANPRM as being available in the docket, and all public comments, will be in our online docket at http://www.regulations.gov and can be viewed by following that Web site's instructions. For illustrations showing the locations of anchorage grounds being considered in the ANPRM, look for the documents in the Supporting & Related Material category. Additionally, if you go to the online docket and sign up for email alerts, you will be notified when comments are posted and if we publish rulemaking documents related to the ANPRM.

B. Basis and Purpose

The Coast Guard is responsible for considering adjustments to improve navigational and environmental safety of waterways, including those requested by groups of mariners. On June 9, 2016, the Coast Guard published an ANPRM in the Federal Register (81 FR 37168) entitled Anchorage Grounds, Hudson River; Yonkers, NY, to Kingston, NY. With its publication, we initiated the early stage of a methodical and public rulemaking process to learn all possible navigational, environmental, terrestrial, and other effects of adding anchorages on the Hudson River. The ANPRM is a preliminary step, the goal of which is to gather information that defines the multiple stakeholder considerations we need to incorporate when considering proposed rule for potential anchorage grounds. This ANPRM solicitation has generated more than 2,100 public submissions with comments on the subject from many diverse stakeholders. This wide-ranging feedback is very helpful. To continue encouraging this important public discussion, we are adding an additional 90 days to the comment period.

C. Information Requested

Public participation is requested to assist in determining the best way forward with respect to establishing new anchorage grounds on the Hudson River between Yonkers, NY, to Kingston, NY. To aid us in developing a possible proposed rule, we seek any comments, whether positive or negative, including but not limited to the impacts anchorage grounds may have on navigation safety and current vessel traffic in this area, the proposed number and size of vessels anchoring in each proposed anchorage ground, and the authorized duration for each vessel in each proposed anchorage ground. We are also seeking comments on any additional locations where anchorage grounds may be helpful on the Hudson River or any recommended alterations to the specific locations considered in this notice. Please submit any comments or concerns you may have in accordance with the “Public Participation and Request for Comments” section above.

Dated: August 31, 2016.
Steven D. Poulin,
Rear Admiral, U.S. Coast Guard, Commander, First Coast Guard District.

[FR Doc. 2016-21371 Filed 9-6-16; 8:45 am]

BILLING CODE 9110-04-P